ENVIRONMENTAL PROTECTION AGENCY

[OPPT-2004-0077; FRL-7827-2]

Agency Information Collection Activities; Submission to OMB for Review and Approval; Comment Request; Asbestos-Containing Materials in Schools Rule and Revised Asbestos Model Accreditation Plan Rule, EPA ICR No. 1365.07, OMB No. 2070-0091

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Asbestos-Containing Materials in Schools Rule and Revised Asbestos Model Accreditation Plan Rule, EPA ICR No. 1365.07, OMB No. 2070-0091. This is a request to renew an existing approved collection. This ICR is scheduled to expire on October 31, 2004. Under OMB regulations, the Agency may continue to conduct or sponsor the collection of information while this submission is pending at OMB. This ICR describes the nature of the information collection and its estimated burden and cost.

DATES: Additional comments may be submitted on or before November 12, 2004.

ADDRESSES: Submit your comments, referencing docket ID Number OPPT-2004-0077, to (1) EPA online using EDOCKET (our preferred method), by email to oppt.ncic@epa.gov or by mail to: EPA Docket Center, Environmental Protection Agency, Office of Pollution Prevention and Toxics (OPPT), Mailcode: 7407T, 1200 Pennsylvania Ave., NW., Washington, DC 20460, and (2) OMB at: Office of Information and Regulatory Affairs, Office of Management and Budget (OMB), Attention: Desk Officer for EPA, 725 17th Street, NW., Washington, DC 20503.

FOR FURTHER INFORMATION CONTACT: Barbara Cunningham, Acting Director, Environmental Assistance Division, Office of Pollution Prevention and Toxics, Environmental Protection Agency, Mailcode: 7408, 1200 Pennsylvania Ave., NW., Washington, DC 20460; telephone number: 202-554-1404; e-mail address: TSCA-Hotline@epa.gov.

SUPPLEMENTARY INFORMATION: EPA has submitted the following ICR to OMB for review and approval according to the procedures prescribed in 5 CFR 1320.12. On March 19, 2004, EPA sought comments on this renewal ICR (69 FR 13032). EPA sought comments on this ICR pursuant to 5 CFR 1320.8(d). EPA received no comments during the comment period.

EPA has established a public docket for this ICR under Docket ID No. OPPT-2004-0077, which is available for public viewing at the OPPT Docket in the EPA Docket Center (EPA/DC), EPA West, Room B102, 1301 Constitution Ave., NW., Washington, DC. The EPA Docket Center Public Reading Room is open from 8 a.m. to 4:30 p.m., Monday through Friday, excluding legal holidays. The telephone number for the Reading Room is 202-566-1744, and the telephone number for the Pollution Prevention and Toxics Docket is 202-566-0280. An electronic version of the public docket is available through EPA Dockets (EDOCKET) at http://www.epa.gov/edocket. Use EDOCKET to submit or view public comments, access the index listing of the contents of the public docket, and to access those documents in the public docket that are available electronically. Once in the system, select “search,” then key in the docket ID number identified above.

Any comments related to this ICR should be submitted to EPA and OMB within 30 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Title: Asbestos-Containing Materials in Schools Rule and Revised Asbestos Model Accreditation Plan Rule.

Abstract: The Asbestos Hazard Emergency Response Act (AHERA) requires local education agencies (LEAs) to conduct inspections, develop management plans, and design or conduct response actions with respect to the presence of asbestos-containing materials in school buildings. AHERA also requires states to develop model accreditation plans for persons who perform asbestos inspections, develop management control plans, and design or conduct response actions. This information collection addresses the burden associated with recordkeeping requirements imposed on LEAs by the asbestos in schools rule, and reporting and recordkeeping requirements imposed on states and training providers related to the model accreditation plan rule.

Responses to the collection of information are mandatory (see 40 CFR part 763, subpart E). Respondents may claim all or part of a notice as CBI. EPA will disclose information that is covered by a CBI claim only to the extent permitted by, and in accordance with, the procedures in 40 CFR part 2.

An agency may not conduct or sponsor, and a person is not required to respond to, a collection of information unless it displays a currently valid OMB control number. The OMB control numbers for EPA's regulations in 40 CFR are listed in 40 CFR part 9 and included on the related collection instrument or form, if applicable.

Burden Statement: The annual public reporting and recordkeeping burden for this collection of information is estimated to be 20.5 hours per response for schools, 140 hours per response for states, and 5.5 hours per response for training providers. Burden means the total time, effort or financial resources expended by persons to generate, maintain, retain or disclose or provide information to or for a Federal agency. This includes the time needed to review instructions; develop, acquire, install and utilize technology and systems for the purposes of collecting, validating and verifying information, processing and maintaining information, and disclosing and providing information; adjust the existing ways to comply with any previously applicable instructions and requirements; train personnel to be able to respond to a collection of information; search data sources; complete and review the collection of information; and transmit or otherwise disclose the information.

Respondents/Affected Entities: Local education agencies (e.g., elementary or secondary school districts); asbestos training providers to schools and educational systems; state education departments or commissions; and public health programs.

Frequency of Collection: On occasion.

Estimated No. of Respondents: 121,321.

Estimated Total Annual Burden on Respondents: 2,485,440 hours.

Estimated Total Annual Costs: $66,571,300.

Changes in Burden Estimates: This request reflects an increase in the total estimated burden of 273,289 hours (from 2,212,151 hours to 2,485,440 hours) from that currently in the OMB inventory. This increase is attributable to a change in the method of calculating total annual burden for LEAs. In previous ICRs, total burden was estimated for the remainder of the 30-year implementation period, then averaged over each of the remaining years to estimate annual burden. Because burden is expected to decline over time as schools abate friable ACM, this method produced lower annual burden estimates for the earlier years in the period because total burden was averaged over a larger number of years. For this ICR renewal, the average estimated number of schools of each type in the three years of the renewal period (years 17-19 of the implementation period) is used with the unit burden estimates to derive an annual burden estimate. This is a more transparent method since it relies on simple multiplication of the estimated number of respondents by the unit burden associated with each.

Dated: October 4, 2004.
Oscar Morales,
Director, Collection Strategies Division.

[FR Doc. 04-22959 Filed 10-12-04; 8:45 am]

BILLING CODE 6560-50-P